OFFICE OF PERSONNEL MANAGEMENT

Agency Information Collection Request: Federal Employees Dental and Vision Insurance Program Enrollment System

AGENCY: Office of Personnel Management.

ACTION: 60-Day notice and request for comments.

SUMMARY: The Office of Personnel Management (OPM) offers the general public the opportunity to comment on an information collection request (ICR): 3206-0272, Federal Employees Dental and Vision Insurance Program (FEDVIP) Enrollment System. As required by the Paperwork Reduction Act, OPM is soliciting comments for this collection.

DATES: Comments are encouraged and will be accepted until June 24, 2025. This process is conducted in accordance with 5 CFR 1320.8(d)(1).

ADDRESSES: You may submit comments, identified by the OMB control number or title, by the following method:

• Federal Rulemaking Portal: https://www.regulations.gov. Follow the instructions for submitting comments.

The general policy for comments and other submissions from members of the public is to make these submissions available for public viewing at https://www.regulations.gov as they are received without change, including any personal identifiers or contact information.

FOR FURTHER INFORMATION CONTACT: A copy of this ICR, with applicable supporting documentation, may be obtained by contacting Dyan Dyttmer, Office of Personnel Management, (202) 606-1412, or via electronic mail at FEDVIP@opm.gov.

SUPPLEMENTARY INFORMATION: As required by the Paperwork Reduction Act of 1995, as amended, 44 U.S.C. 3506(c)(2), OPM is soliciting comments for this collection. The Office of Personnel Management is particularly interested in comments that:

1. Evaluate whether the proposed collection of information is necessary for the proper performance of functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Background

The Federal Employees Dental and Vision Insurance Program Enrollment System uses BENEFEDS, which is the secure enrollment website sponsored by OPM that allows eligible individuals to enroll or change enrollment in a FEDVIP plan. Eligible individuals use the system to enroll or change enrollment during the annual Federal Benefits Open Season or when experiencing a qualifying life event during the plan year under 5 CFR 894.101. FEDVIP is available to eligible Federal civilian and U.S. Postal Service (USPS) employees, retirees (annuitants), survivor annuitants, compensationers, and their eligible family members (dependents); and certain TRICARE-eligible individuals (TEIs) who are authorized under section 715 of Public Law 114-328, on an enrollee-pay-all basis. There is no government contribution toward premiums.

OPM uses this enrollment system to carry out its responsibility to administer FEDVIP in accordance with 5 U.S.C. chapters 89A and 89B and implementing regulations (5 CFR part 894). Additionally, to align with Executive Order 14168, Defending Women From Gender Ideology Extremism and Restoring Biological Truth to the Federal Government, OPM plans to change information relating to gender in this information collection where appropriate.

Analysis

Agency: Office of Personnel Management.

Title: Federal Employees Dental and Vision Insurance Program (FEDVIP) Enrollment System.

OMB Number: 3206-0272.

Frequency: Annual.

Affected Public: Individuals or Households.

Number of Respondents: 502,347.

Estimated Time per Respondent: 7.03 minutes.

Total Burden Hours: 58,858 hours.

Alexys Stanley,
Federal Register Liaison.

[FR Doc. 2025-07171 Filed 4-24-25; 8:45 am]

BILLING CODE 6325-64-P